DEPARTMENT OF COMMERCE

National Oceanic and Atmospheric Administration

[RTID 0648-XB232]

Endangered and Threatened Species; Take of Anadromous Fish

AGENCY: National Marine Fisheries Service (NMFS), National Oceanic and Atmospheric Administration (NOAA), Commerce.

ACTION: Notice of availability.

SUMMARY: Notice is hereby given that the Final Environmental Assessment (EA), Finding of No Significant Impact (FONSI), and Section (10)(a)(1)(A) enhancement permit have been issued for the Russian River Coho Salmon Captive Broodstock Program Hatchery Genetic Management Plan (HGMP). The program propagates endangered coho salmon of the Central California Coast (CCC) Evolutionary Significant Unit (ESU). This notice is being provided for information purposes only, and as such, there is no public comment period associated with this notice.

ADDRESSES: The Final EA, FONSI, Section (10)(a)(1)(A) enhancement permit and supporting documents are available by visiting the NMFS website (www.fisheries.noaa.gov/west-coast/laws-and-policies/west-coast-region-national-environmental-policy-act-documents).

FOR FURTHER INFORMATION CONTACT: Bob Coey at: 707-575-6090 or via email: Bob.Coey@noaa.gov.

SUPPLEMENTARY INFORMATION:

Endangered Species Act—Listed Species Covered in This Notice

• Coho salmon (Oncorhynchus kisutch): Endangered Central California Coast (CCC) ESU.

• Steelhead (Oncorhynchus mykiss): Threatened CCC Distinct Population Segment (DPS).

• Chinook salmon (Oncorhynchus tshawytscha): Threatened California Coastal (CC) ESU.

Background

On September 30, 2019, the California Department of Fish and Wildlife (CDFW) and the United States Army Corps of Engineers (Corps) submitted an Endangered Species Act (ESA) Section 10(a)(1)(A) permit application (Permit Application 21501) along with a proposed HGMP for the artificial propagation of individuals in the CCC coho salmon ESU at the Don Clausen Fish Hatchery (DCFH). Since 2017, NMFS' West Coast Region's California Coastal Office has provided technical assistance to the Corps and CDFW on the development of the HGMP. The Proposed Action, as described in the HGMP, involves the operation of a hatchery program at DCFH, which produces CCC coho salmon.

The Russian River Coho Salmon Captive Broodstock Program (RRCSCBP) is a conservation program intended to prevent extirpation and establish self-sustaining populations of CCC coho salmon in Sonoma, Marin, and Mendocino counties, where populations are currently at a high-risk of extinction. The RRCSCBP will continue to collect CCC coho for broodstock, conduct routine hatchery activities including broodstock collection, egg incubation, rearing, tissue sampling, marking, and release of 500,000 juveniles and 700 adult coho salmon into rivers and streams in Sonoma, Marin, and Mendocino counties associated with the northern portion of the CCC ESU. Measures will be applied in the hatchery program to reduce the risk of incidental adverse genetic, ecological, and demographic effects on natural-origin CCC steelhead, CC Chinook salmon, and CCC coho salmon populations.

From November 26, 2018 to December 26, 2018, the HGMP and draft EA were available for public review and comment (83 FR 60405; November 26, 2018). During the public comment period, NMFS received no comments. NMFS has determined that there are no significant impacts associated with the project and issued a FONSI for the program on December 21, 2020. The ESA Section 10(a)(1)(A) permit issued January 13, 2021, will allow the Corps to perform broodstock collection, propagation, rearing, release, and monitoring activities throughout Sonoma, Marin, and Mendocino counties, in accordance with the HGMP for 10 years (expiring December 31, 2028).

Authority

Enhancement permits are issued in accordance with Section 10(a)(1)(A) of the ESA (16 U.S.C. 1531 et seq.), and regulations governing listed fish and wildlife permits (50 CFR parts 222-227). NMFS issues permits based on findings that such permits: (1) Are applied for in good faith; (2) if granted and exercised, would not operate to the disadvantage of the listed species that are the subject of the permit; (3) are consistent with the purposes and policies of Section 2 of the ESA. The authority to take listed species is subject to conditions set forth in the permit.

Dated: July 12, 2021.
Margaret Miller,
Acting Chief, Endangered Species Division, Office of Protected Resources, National Marine Fisheries Service.

[FR Doc. 2021-15075 Filed 7-14-21; 8:45 am]

BILLING CODE 3510-22-P